CORPORATION FOR NATIONAL AND COMMUNITY SERVICE

Sunshine Act Meetings

The Board of Directors of the Corporation for National and Community Service (operating as AmeriCorps) gives notice of the following meeting:

TIME AND DATE: Thursday, October 19, 2023, 12 p.m.-1:30 p.m. (ET).

PLACE: AmeriCorps, 250 E Street SW, Washington, DC 20525. For health and safety reasons, this will be a virtual meeting.

• To register for the meeting, please use this link: https://americorps.zoomgov.com/webinar/register/WN_GyvUyskiTySJh46ViJR5mg.

• Webinar ID: 161 080 7298 Passcode: 129418.

• To participate by phone, call toll free: (833) 568-8864.

STATUS: Open to the public.

MATTERS TO BE CONSIDERED:

I. Opening Remarks by the Chair

II. CEO Report

III. Reflection of 9/11 Day of Service

IV. Oversight, Governance, and Audit Committee Report

V. Approval of Grant Plan

VI. Spotlight: AmeriCorps' 30th Anniversary

VII. Public Comment

VIII. Chair's Closing Remarks and Adjournment

Members of the public who would like to comment on the business of the Board may do so in writing or virtually. Submit written comments to board@cns.gov with the subject line: “Comments for October 19, 2023, AmeriCorps Board Meeting” no later than 5:00 p.m. (ET) October 14, 2023. Individuals who would like to comment during the meeting will be given instructions for signing up when they join the meeting. Comments are requested to be limited to two minutes.

AmeriCorps provides reasonable accommodation to individuals with disabilities, where needed.

CONTACT PERSON FOR MORE INFORMATION: Heather Leinenbach by telephone: (202) 489-5266 or by email: board@cns.gov.

Fernando Laguarda,
General Counsel.

[FR Doc. 2023-21752 Filed 9-27-23; 4:15 pm]

BILLING CODE 6050-28-P